TRADE REPRESENTATIVE

[Docket No. WTO/DS-360]

WTO Dispute Settlement Proceeding Regarding India—Additional and Extra Additional Duties on Imports

AGENCY: Office of the United States Trade Representative.

ACTION: Notice; request for comments.

SUMMARY: The Office of the United States Trade Representative (USTR) is providing notice that on March 6, 2007, in accordance with the Marrakesh Agreement Establishing the World Trade Organization (WTO Agreement), the United States requested consultations regarding additional and extra additional duties India applies to imports from the United States. India applies these duties to products that include, but are not limited to, imports of wines and distilled spirits. That request may be found at www.wto.org contained in a document designated as WT/DS360/1. USTR invites written comments from the public concerning the issues raised in this dispute.

DATES: Although USTR will accept any comments received during the course of the consultations, comments should be submitted on or before May 7, 2007 to be assured of timely consideration by USTR.

ADDRESSES: Comments should be submitted (i) electronically, to FR0706@ustr.eop.gov, with “India Alcohol Duties (DS360)” in the subject line, or (ii) by fax, to Sandy McKinzy at (202) 395-3640, with a confirmation copy sent electronically to the electronic mail address above, in accordance with the requirements for submission set out below.

FOR FURTHER INFORMATION CONTACT: Amy A. Karpel, Assistant General Counsel, Office of the United States Trade Representative, 600 17th Street, NW., Washington, DC, (202) 395-3150.

SUPPLEMENTARY INFORMATION: Section 127(b) of the Uruguay Round Agreements Act (URAA) (19 U.S.C. 3537(b)(1)) requires that notice and opportunity for comment be provided after the United States submits or receives a request for the establishment of a WTO dispute settlement panel. In an effort to provide additional opportunity for comment, USTR is providing notice that consultations have been requested pursuant to the WTO Understanding on Rules and Procedures Governing the Settlement of Disputes (“DSU”). If such consultations should fail to resolve the matter and a dispute settlement panel is established pursuant to the DSU, such panel, which would hold its meetings in Geneva, Switzerland, would be expected to issue a report on its findings and recommendations within nine months after it is established.

Major Issues Raised by the United States

On March 6, 2007, the United States requested consultations with India regarding additional and extra additional duties India applies to imports from the United States. India applies these duties to products that include, but are not limited to, imports of wines and distilled spirits. These duties appear to subject imports to ordinary customs duties or other duties or charges in excess of those in India's WTO Tariff Schedule. These duties include the following, as well as any amendments and related or implementing measures:

• Sections 2 and 3, and First Schedule, of the Customs Tariff Act, 1975; (“basic customs duty,” “additional duty” and “extra additional duty”).

• Section 12 of the Customs Act, 1962 (“basic customs duty”).

• Customs Notification No. 5/2004 (January 8, 2004) (“basic customs duty” inter alia on spirits);

• Customs Notification No. 20/1997 (March 1, 1997) (“basic customs duty” inter alia on wine);

• Customs Notification No. 32/2003 (March 1, 2003) (“additional duty” inter alia on wine and spirits); and

• Customs Notification No. 19/2006 (March 1, 2006) (“extra additional duty” inter alia on wine and spirits).

As a result of the duties, products from the United States do not appear to be exempt from ordinary customs duties or other charges in excess of those set forth in India's WTO Tariff Schedule and appear to be accorded less favorable treatment than that provided for in India's WTO Tariff Schedule. Even if these duties were considered to be internal taxes applied at the time of importation, the duties appear to subject imports from the United States to internal taxes in excess of those applied to like domestic products or directly competitive or substitutable domestic products

USTR believes these measures are inconsistent with India's obligations under Article II:1(a) and (b), Articles III:2 and III:4 of the General Agreement on Tariffs and Trade 1994.

Public Comment: Requirements for Submissions

Interested persons are invited to submit written comments concerning the issues raised in the dispute. Comments should be submitted (i) electronically, to FR0706@ustr.eop.gov, with “India Alcohol Duties (DS360)” in the subject line, or (ii) by fax, to Sandy McKinzy at (202) 395-3640, with a confirmation copy sent electronically to the electronic mail address above.

USTR encourages the submission of documents in Adobe PDF format as attachments to an electronic mail. Interested persons who make submissions by electronic mail should not provide separate cover letters; information that might appear in a cover letter should be included in the submission itself. Similarly, to the extent possible, any attachments to the submission should be included in the same file as the submission itself, and not as separate files.

Comments must be in English. A person requesting that information contained in a comment submitted by that person be treated as confidential business information must certify that such information is business confidential and would not customarily be released to the public by the commenter. Confidential business information must be clearly designated as such and “Business Confidential” must be marked at the top and bottom of the cover page and each succeeding page. Persons who submit confidential business information are encouraged also to provide a non-confidential summary of the information.

Information or advice contained in a comment submitted, other than business confidential information, may be determined by USTR to be confidential in accordance with section 135(g)(2) of the Trade Act of 1974 (19 U.S.C. 2155(g)(2)). If the submitter believes that information or advice may qualify as such, the submitter—

(1) Must clearly so designate the information or advice;

(2) Must clearly mark the material as “Submitted In Confidence” at the top and bottom of the cover page and each succeeding page; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; if a dispute settlement panel is convened or in the event of an appeal from such a panel, the U.S. submissions, the submissions, or non-confidential summaries of submissions, received from other participants in the dispute; the report of the panel; and, if applicable, the report of the Appellate Body. The USTR Reading Room is open to the public, by appointment only, from 10 a.m. to noon and 1 p.m. to 4 p.m., Monday through Friday. An appointment to review the public file (Docket WTO/DS-360, India Alcohol Duties Dispute) may be made by calling the USTR Reading Room at (202) 395-6186.

Daniel Brinza,
Assistant United States Trade Representative for Monitoring and Enforcement.

[FR Doc. E7-7376 Filed 4-17-07; 8:45 am]

BILLING CODE 3190-W7-P